Proclamation 9491 of September 9, 2016

Patriot Day and National Day of Service and Remembrance, 2016

By the President of the United States of America

A Proclamation

Fifteen years ago, nearly 3,000 innocent lives—men, women, and children who had been going about their normal routines—were taken from us, depriving families and loved ones of a lifetime of precious moments. But the acts of terror of September 11, 2001, sought to do more than hurt our people and bring down buildings: They sought to break our spirit and destroy the enduring values that unite us as Americans. In the years that followed, our capacity to love and to hope has guided us forward as we worked to rebuild, more sound and resilient than ever before. With the hearts of those we lost held faithfully in our memories, we reaffirm the unwavering optimism and everlasting strength that brought us together in our darkest hour, and we resolve to give of ourselves in service to others in that same spirit.

The pain inflicted on our Nation on September 11 was felt by people of every race, background, and faith. Though many young Americans have grown up without knowing firsthand the horrors of that day, their lives have been shaped by it. They hear of the many acts of service that occurred—coworkers who led others to safety, passengers who stormed a cockpit, and first responders who charged directly into the fire. Many Americans did everything they could to help survivors, from volunteering their time to donating food, clothing, and blood. And many signed up to don our Nation's uniform to prove to the world that no act of terror could eclipse the strength or character of our country.

United by a common creed, a commitment to lifting up our neighbors, and a belief that we are stronger when we stand by one another, we must find the courage to carry forward the legacy of those who stepped up in our time of need. By devoting ourselves to each other and recognizing that we are a part of something bigger than ourselves—just as heroic patriots did on September 11—we are paying tribute to their sacrifices. On this National Day of Service and Remembrance, we must ensure that darkness is no match for the light we shine by engaging in acts of service and charity. I invite all Americans to observe this day with compassionate and selfless deeds that embody the values that define our people, and to visit www.Serve.gov to find opportunities to give back to their communities.

America endures in the tenacity of our survivors, and in the dedication of those who keep us safe. Today, we honor all who lost their lives in the heartbreaking attacks of September 11, and all who made the ultimate sacrifice for our country in the years that followed. In memory of these beautiful souls, we vow to keep moving forward. Let us have confidence in the values that make us American, the liberties that make us a beacon to the world, and the unity we sustain every year on this anniversary. Above all, let us stand as strong as ever before and recognize that together, there is nothing we cannot overcome.

By a joint resolution approved December 18, 2001 (Public Law 107-89), the Congress has designated September 11 of each year as “Patriot Day,” and by Public Law 111-13, approved April 21, 2009, the Congress has requested the observance of September 11 as an annually recognized “National Day of Service and Remembrance.”

NOW, THEREFORE, I, BARACK OBAMA, President of the United States of America, do hereby proclaim September 11, 2016, as Patriot Day and National Day of Service and Remembrance. I call upon all departments, agencies, and instrumentalities of the United States to display the flag of the United States at half-staff on Patriot Day and National Day of Service and Remembrance in honor of the individuals who lost their lives on September 11, 2001. I invite the Governors of the United States and its Territories and interested organizations and individuals to join in this observance. I call upon the people of the United States to participate in community service in honor of those our Nation lost, to observe this day with appropriate ceremonies and activities, including remembrance services, and to observe a moment of silence beginning at 8:46 a.m. Eastern Daylight Time to honor the innocent victims who perished as a result of the terrorist attacks of September 11, 2001.

IN WITNESS WHEREOF, I have hereunto set my hand this ninth day of September, in the year of our Lord two thousand sixteen, and of the Independence of the United States of America the two hundred and forty-first.

[FR Doc. 2016-22294

Filed 9-13-16; 11:15 am]

Billing code 3295-F6-P